DEPARTMENT OF ENERGY

Federal Energy Regulatory Commission

Notice of Declaration of Intention and Soliciting Comments Motions To Intervene, and Protests

February 26, 2001.

Take notice that the following application has been filed with the Commission and is available for public inspection:

a. Application Type: Petition for Declaration of Intention.

b. Docket No: DI01-6-000.

c. Date Filed: February 8, 2001.

d. Applicant: Northern Illinois Hydropower.

e. Name of Project: Brandon Road Hydropower Plant.

f. Location: The Brandon Road Hydropower Plant is located at the U.S. Army Corps of Engineers' Brandon Road Lock and Dam on the Illinois Waterway, in Will County, near Joliet, Illinois. The project does not occupy additional federal or Tribal land.

g. Filed Pursuant to: Section 23(b)(1) of the Federal Power Act, 16 U.S.C. §§ 817(b).

h. Applicant Contact: Dennis Cohil, 801 Oakland Avenue, Joliet, IL 60435, telephone (815) 723-6314, Fax number; (815) 725-5687 E-Mail damonzdunich@aol

i. FERC Contact: Any questions on this notice should be addressed to Henry Ecton at (202) 219-2678, or E-mail address: henry.ecton@ferc.fed.us.

j. Deadline for filing comments and/or motions: March 26, 2001.

All documents (original and eight copies) should be filed with: David P. Boergers, Secretary, Federal Energy Regulatory Commission, 888 First Street, NE., Washington, DC 20426. Comments and protests may be filed electronically via the Internet in lieu of paper. See, 18 CFR 385.2001(a)(1)(iii) and the instructions on the Commission's web site at http//www.ferc.fed.us/efi/doorbell.htm

Please include the docket number (DI01-6-000) on any comments or motions filed.

k. Description of Project: The proposed project will consist of: (1) A 61-foot-long by 90-foot-wide powerhouse; (2) three 3,000 mm tubulat turbines, with a rated capacity of 9.9 MW; and (3) appurtenant facilities. The power produced will be sold into an interstate grid.

When a Declaration of Intention is filed with the Federal Energy Regulatory Commission, the Federal Power Act requires the Commission to investigate and determine if the interests of interstate or foreign commerce would be affected by the project. The Commission also determines whether or not the project: (1) Would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Locations of the Application: A copy of the application is available for inspection and reproduction at the Commission's Public Reference Room located at 888 First Street, NE., Room 2A, Washington, DC 20426, or by calling (202) 208-1371. This filing may be viewed on http://www.fer.fed.us/online/rims.htm (call (202) 208-2222 for assistance). A copy is also available for inspection and reproduction at the address in item h. above.

m. Individuals desiring to be included on the Commission's mailing list should so indicate by writing to the Secretary of the Commission.

n. Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

o. Filing and Service of Responsive Documents—Any filings must bear in all capital letters the title “Comments”, “Recommendations for Terms and Conditions”, “Protest”, or “Motion to Intervene”, as applicable, and the Project Number of the particular application to which the filing refers. A copy of any motion to intervene must also be served upon each representative of the Applicant Specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-5096 Filed 3-1-01; 8:45 am]

BILLING CODE 6717-01-M